DEPARTMENT OF JUSTICE

Notice of Lodging of Joint Stipulation Under the Clean Air Act

Notice is hereby given that on July 25, 2011, a proposed Joint Stipulation to Modify the Sixth Amendment to the Consent Decree entered in United States v. BP Exploration and Oil Co., et al., (Civil No. 2:96 CV 095 RL) (“Joint Stipulation”), was lodged with the United States District Court for the Northern District of Indiana.

The Joint Stipulation modifies the Supplemental Environmental Project (referred to as the “Natural Gas Conversion SEP”) required as part of the Sixth Amendment to the Consent Decree. The Sixth Amendment to the Consent Decree resolved the United States' civil claims against BP Products North America Inc. (“BP Products”) for alleged Clean Air Act (“CAA”) violations at its petroleum refinery located in Texas City, Texas (the “Texas City Refinery”). The Joint Stipulation modifies the Natural Gas Conversion SEP so that heavy-duty diesel vehicles from third parties other than the City of Texas City, Texas and the Texas City Independent School District can now be converted as part of the Natural Gas Conversion SEP. The Joint Stipulation also requires BP Products to convert two additional heavy-duty diesel vehicles as part of the Natural Gas Conversion SEP, and eliminates the requirement to convert light-duty gasoline vehicles. Pursuant to the Sixth Amendment, BP Products was required to spend at least $6,000,000 on the Natural Gas Conversion SEP. Pursuant to the Joint Stipulation, BP Products will have to spend at least $6,250,000 in completing the modified SEP.

The Joint Stipulation also requires BP Products to perform a “Handheld Air Monitor SEP.” As part of this SEP, BP Products will provide the Galveston County Health District and the Texas City Fire Department with handheld ambient air monitors that are capable of detecting volatile organic compounds (VOCs), as well as other toxic and combustible gases. BP Products is required to spend at least $35,000 in completing the Handheld Air Monitor SEP.

The Department of Justice will receive for a period of thirty (30) days from the date of this publication comments relating to the Joint Stipulation. Comments should be addressed to the Assistant Attorney General, Environment and Natural Resources Division, and either e-mailed to pubcomment-ees.enrd@usdoj.gov or mailed to P.O. Box 7611, U.S. Department of Justice, Washington, DC 20044-7611, and should refer to United States v. BP Exploration & Oil Co., et al., D.J. Ref. 90-5-2-1-07109.

During the public comment period, the Joint Stipulation may also be examined on the following Department of Justice Web site: http://www.usdoj.gov/enrd/Consent_Decrees.html. A copy of the Joint Stipulation may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy from the Consent Decree Library by mail, please enclose a check in the amount of $3.00 (25 cents per page reproduction cost) payable to the U.S. Treasury or, if requesting by e-mail or fax, forward a check in that amount to the Consent Decree Library at the address given above.

Maureen M. Katz,
Assistant Chief, Environmental Enforcement Section, Environment and Natural Resources Division.

[FR Doc. 2011-19188 Filed 7-28-11; 8:45 am]

BILLING CODE 4410-15-P